DEPARTMENT OF THE INTERIOR

Bureau of Reclamation

South Delta Improvements Program

AGENCY: Bureau of Reclamation, Department of the Interior.

ACTION: Notice of extension of time for written comments on scope of environmental impact statement/environmental impact report (EIS/EIR).

SUMMARY: The Bureau of Reclamation is extending the public review period to October 31, 2002, for written comments on the scope of the EIS/EIR for the South Delta Improvements Program. The notice of intent for the EIS/EIR was published in the Federal Register on August 30, 2002 (67 FR 55870). The comment period was originally to end on October 4, 2002.

DATES: Written comments on the scope of the EIS/EIR should be submitted on or before October 31, 2002.

ADDRESSES: Written comments on the scope of the EIS/EIR should be sent to Mr. Dan Meier, Bureau of Reclamation, 2800 Cottage Way, MP-700, Sacramento, CA 95825.

FOR FURTHER INFORMATION CONTACT: Mr. Meier, Reclamation, at the above address, or by telephone at 916-978-5086 or TDD 1-800-735-2922; or Mr. Paul Marshall, Department of Water Resources, 1416 Ninth Street, Sacramento, CA 94236, or by telephone at 916-653-2118.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: September 26, 2002.
Frank Michny,
Regional Environmental Officer.

[FR Doc. 02-25506 Filed 10-7-02; 8:45 am]

BILLING CODE 4310-MN-P